DEPARTMENT OF ENERGY

Federal Energy Regulatory Commission

[Docket No. RM01-5-000]

Electronic Tariff Filings; Notice of Updates to The Commission's E-Tariff Public Viewer

Take notice that effective November 5, 2021, the Commission's electronic tariff (eTariff) public viewer (https://etariff.ferc.gov/) has been improved in several respects.

(1) Tariff Records will now contain a “Download as Filed” option which will download the as-filed PDF or RTF tariff record without any header information.¹ The download should include footnotes and other formatting in the tariff record.

¹ The download version of the tariff record represents straight decoding of the XML Base 64 encoded data provided by the filer prior to any additions or revisions introduced by Commission software, such as including the tariff record metadata in the header. See Electronic Tariff Filings, Order No. 714, 124 FERC ¶ 61,270, at PP 12 n.8, 23, 109 n.61 (2008) (explaining the process for making tariff filings).

(2) The “Tariff Section Search” will include a set of Boolean operators, AND, OR, NOT, and NEAR, for searching for Tariff Section Title and Tariff Section Text. Please note that entering searches in both the Tariff Section Title and Tariff Section Text is treated as an AND statement. A link to instructions for searching also is provided.

(3) The Search feature includes a list of the number of tariff records found.

For more information, contact the eTariff Advisory Staff at 202-502-6501 or etariffresponse@ferc.gov.

This notice is issued and published in accordance with 18 CFR 2.1.

Dated: November 5, 2021.
Kimberly D. Bose,
Secretary.

[FR Doc. 2021-24659 Filed 11-10-21; 8:45 am]

BILLING CODE 6717-01-P